DEPARTMENT OF THE INTERIOR

Bureau of Land Management

[OR-025-02-1430-EU: G-2-0235]

Realty Action: Sale of Public Land in Harney County, Oregon; Correction

AGENCY: Bureau of Land Management (BLM), Interior.

ACTION: Notice of realty action, sale of public land; correction.

SUMMARY: Correction to Volume 67, page 21716, last sentence on the page should read, Bidding will be by sealed bid followed by an oral auction to be held at 2 p.m. PST on July 1, 2002, at the Burns District Office, Bureau of Land Management, 28910 Hwy 20 West, Hines, Oregon 97738.

EFFECTIVE DATE: On or before June 17, 2002, interested persons may submit comments regarding the proposed sale to the Acting Three Rivers Resource Area Field Manager at the address described below. Comments or protests must reference a specific parcel and be identified with the appropriate serial number. In the absence of any objections, this proposal will become the determination of the Department of the Interior.

ADDRESSES: Comments, bids, and inquiries should be submitted to the Acting Three Rivers Resource Area Field Manager, Bureau of Land Management, 28910 Hwy 20 West, Hines, Oregon 97738.

FOR FURTHER INFORMATION CONTACT: Detailed information concerning this public land sale is available on the internet at <http://www.or.blm.gov/Burns> or may be obtained from the Acting Three Rivers Resource Area Field Manager; or Holly LaChapelle, Land Law Examiner, at the above address, phone (541) 573-4400.

Dated: May 16, 2002.
William I. Andersen,
Acting Three Rivers Resource Area Field Manager.

[FR Doc. 02-15314 Filed 6-17-02; 8:45 am]

BILLING CODE 4310-33-P